SMALL BUSINESS ADMINISTRATION

[Declaration of Disaster #3428; Amdt. 10]

State of Texas

In accordance with a notice received from the Federal Emergency Management Agency, dated September 11, 2002, the above numbered declaration is hereby amended to extend the deadline for filing applications for physical damages as a result of this disaster to September 30, 2002.

All other information remains the same, i.e., the deadline for filing applications for economic injury is April 4, 2003.

(Catalog of Federal Domestic Assistance Program Nos. 59002 and 59008)
Dated: September 16, 2002.
Herbert L. Mitchell,
Associate Administrator for Disaster Assistance.

[FR Doc. 02-24141 Filed 9-20-02; 8:45 am]

BILLING CODE 8025-01-P